DEPARTMENT OF LABOR

Office of the Assistant Secretary for Administration and Management; Agency Information Collection Activities: Proposed Collection; Comment Request; Applicant Background Questionnaire

AGENCY: Office of the Assistant Secretary for Administration and Management (OASAM), Department of Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Department of Labor is soliciting comments concerning the proposed extension of the Applicant Background Questionnaire.

A copy of the proposed information collection request (ICR) can be obtained by contacting the office listed below in the addressee section of this notice.

DATES: Written comments must be submitted to the office listed in the addressee section below on or before September 23, 2008.

ADDRESSEE: William Glasgow, U.S. Department of Labor, Human Resources Center, 200 Constitution Ave. NW., Room N-5464, Washington, DC 20210; Phone: (202)693-7738; Written comments limited to 10 pages or fewer may also be transmitted by facsimile to: (202)693-7814; Internet: glasgow.william@dol.gov.

SUPPLEMENTARY INFORMATION: I. Background: The Department of Labor, as part of its obligation to provide equal employment opportunities, is charged with ensuring that qualified individuals in groups that are under-represented in various occupations are included in applicant pools for the Department's positions. See 5 U.S.C. 7201(c); 29 U.S.C. 791; 29 U.S.C. 2000e-16; 5 CFR 720.204; 29 CFR 1614.101(a). To achieve this goal, DOL employment offices have conducted targeted outreach to a variety of sources, including educational institutions, professional organizations, newspapers, and magazines. DOL has also participated in career fairs and conferences that reach high concentrations of Hispanics, African Americans, Native Americans, Asians, and persons with disabilities.

Without the data provided by this collection, DOL does not have the ability to evaluate the effectiveness of any of these targeted recruiting strategies because collection of racial and national origin information only occurs at the point of hiring. DOL needs to collect data on the pools of applicants which result from the various targeted recruitment strategies listed above. After the certification and selection process has been completed, it is necessary to cross-reference the data collected with the outcome of the qualifications review in order to evaluate the quality of applicants from various recruitment sources. With the information from this collection, DOL can adjust and redirect its targeted recruitment to achieve the best result. DOL will also be able to respond to requests for information received from the Office of Personnel Management (OPM) in the course of OPM evaluation and oversight activities.

II. Desired Focus of Comments: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, for example, through the use of appropriate automated, electronic, mechanical, or other technological collection techniques or other forms of information technology, e.g., permitting electronic submissions of responses.

III. Current Actions: This notice requests an extension of the current Office of Management and Budget approval of the Applicant Background Questionnaire. Extension is necessary to continue to evaluate the effectiveness of agency recruitment programs in attracting applicants from under-represented sectors of the population.

Type of Review: Extension of a currently approved collection.

Agency: U.S. Department of Labor.

Title: Applicant Background Questionnaire.

OMB Number: 1225-0072.

Affected Public: Applicants for positions recruited in the Department of Labor. Other Federal agencies have requested to use the DOL form. We are including the Department of Agriculture, ARS as an agency that wishes to use the form for their recruitment program. Their burden numbers are also included below.

Total Respondents:

Department of Labor—3,000

USDA, ARS—17,800

Total—20,800

Frequency: One time per respondent.

Total Responses: 20,800.

Average Time per Response: 3 minutes for on-line applicants (DOL). 5 minutes for paper applications (USDA).

Estimated Total Burden Hours:

DOL—150 hours

USDA—1,458 hours, 20 min

Total—1,608 hours, 20 min

Total Burden Cost (capital/startup): $0

Total Burden Cost (operating/maintaining):

DOL—$87.46

USDA—$1,049.52

Total—$1,136.98

Comments submitted in response to this notice will be summarized and/or included in the request for Office of Management and Budget approval of the information collection request; they will also become a matter of public record.

Dated: July 18, 2008.
Suzy Barker,
Director of Human Resources.

[FR Doc. E8-17078 Filed 7-24-08; 8:45 am]

BILLING CODE 4510-23-P